DEPARTMENT OF ENERGY

Federal Energy Regulatory Commission

[Docket Nos. EL06-91-000, P-12252-023]

Fourth Branch Associates (Mechanicville), Complainant, v Hudson River-Black Regulating District, Respondent; Notice of Complaint

July 27, 2006.

On July 25, 2006, Fourth Branch Associates (Fourth Branch) filed a formal complaint against Hudson River-Black River Regulating District (District) pursuant to Rule 206 of the Commission's Rules of Practice and Procedure, 18 CFR 385.206 (2006), and section 306 of the Federal Power Act (FPA), 16 U.S.C. 825(e).

In 2002, the Commission issued an original license to the District for the continued operation of the Great Sacandaga Lake Project No. 12252.¹ The project is located on the Sacandaga River, a tributary of the Hudson River. Fourth Branch is the licensee for the Mechanicville Project No. 6032, located on the Hudson River downstream of the Sacandaga River.²

¹ Hudson River-Black River Regulating District, 100 FERC ¶ 61,319 (2002); order on rehearing, 102 FERC ¶ 61,133 (2003).

² There are a number of other licensed projects located downstream of the District's project.

Fourth Branch alleges that when the District became a licensee in 2002, its annual assessment of charges against Fourth Branch to cover a portion of the District's costs of operating and maintaining Great Sacandaga Lake came under the headwater benefits provisions of section 10(f) of the FPA, 16 U.S.C. 803(f) (2000), and sections 11.10 through 11.17 of the Commission's regulations, 18 CFR 11.10-11.17 (2006). Fourth Branch further alleges that since 2002, the District has continued to assess and collect these charges from Fourth Branch notwithstanding the absence of an agreement with Fourth Branch for those charges or Commission approval of the charges. Moreover, Fourth Branch contends, despite Commission orders in 2002 and 2004 requiring the District to submit both its headwater benefits charges agreement and actual charges to the Commission for approval,³ the District has failed to do so, and is therefore in violation of the FPA and the Commission's regulations.

³ See 100 FERC ¶ 61,319 at P 47-49; and 102 FERC ¶ 61,133 at P 13-14.

Fourth Branch certifies that copies of the complaint were served on the District, as well as all Hudson River hydroelectric and municipal flood control recipients of annual assessment bills from the District.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on August 16, 2006.

Magalie R. Salas,
Secretary.

[FR Doc. E6-12507 Filed 8-2-06; 8:45 am]

BILLING CODE 6717-01-P